DEPARTMENT OF THE INTERIOR

Fish and Wildlife Service

[FWS-R3-NWRS-2018-N128; FF09R50000 18X FVRS84510900000; OMB Control Number 1018-New]

Agency Information Collection Activities; Submission to the Office of Management and Budget for Review and Approval; U.S. Fish and Wildlife Service Preliminary Land Acquisition Tracking Processes

AGENCY: Fish and Wildlife Service, Interior.

ACTION: Notice of information collection; request for comment.

SUMMARY: In accordance with the Paperwork Reduction Act of 1995, we, the U.S. Fish and Wildlife Service, are proposing a new information collection.

DATES: Interested persons are invited to submit comments on or before May 9, 2019.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-New in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We published a Federal Register notice with a 60-day public comment period soliciting comments on this collection of information on July 11, 2018 (83 FR 32138). We received no comments in response to that notice.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: Information collected by the U.S. Fish and Wildlife Service (in support of the land acquisition program) is required under applicable statutes, Department of Justice regulations, Departmental and Service policies, and best business practices. In addition, the land acquisition program facilitates Secretarial Orders 3356 and 3366 by tracking land acquisitions that have potential to support public hunting, fishing, and other forms of outdoor recreation, and access related thereto. Authorities for the collection of realty-related information include:

• Regulations of the Attorney General Governing the Review and Approval of Title for Federal Land Acquisitions (2016);

• Uniform Relocation Assistance and Real Property Acquisition Policies Act of 1970 (42 U.S.C. 4601);

• National Wildlife Refuge Administration Act of 1966 (16 U.S.C. 668dd);

• Migratory Bird Hunting and Conservation Stamp Act (16 U.S.C. 718d);

• Migratory Bird Conservation Act (16 U.S.C. 715-715r, as amended);

• Land and Water Conservation Fund Act of 1965, as amended (16 U.S.C. 460l);

• Endangered Species Act of 1973, as amended (16 U.S.C. 1534);

• Emergency Wetlands Resources Act of 1986 (16 U.S.C. 3901); and

• Fish and Wildlife Act of 1956, as amended (16 U.S.C. 742a).

The Service tracks information collected from landowners as part of the preliminary land acquisition process. Information collected by the Service as part of the preliminary land acquisition process may include the following:

• Initial Requests—Initial request to consider property, to include such items as:

○ Identifying information for the legal property owner(s), such as:

—Name of primary property owner, along with spouse and/or co-owner(s) whose names appear on the current deed to the property under review;

—Marital status;

—Other names used; and

—Contact information to include telephone numbers, personal email addresses, and mailing/home addresses.

○ Financial information, to include Social Security Numbers (necessary for final payment transaction).

○ Property description, to include such information as:

—Property name,

—Location,

—Legal description, and

—Introductory information.

• Permission to Inspect and Appraise (FWS Form 3-2471)—Collects information about the property owner and location, and grants permission to enter and inspect the property for real estate acquisition purposes. Inspection may include, but is not limited to:

○ Appraisal Valuations;

○ Boundary survey;

○ Hazardous materials examination (contaminant survey); and

○ Physical examination of any structures on the property.

We do not use FWS Forms 3-2471 in projects that are under Memoranda of Understanding (MOU), Memoranda of Agreement (MOA), Cooperative Agreements, some donation partnerships, and other special cases.

• Waiver of Appraisal Requirement (nonform-letter)—Per 49 CFR 24.102(c)(2), a willing-seller landowner may release the Service from the obligation of obtaining an appraisal for: (1) Land donations and (2) certain land acquisitions where the anticipated value is low and the valuation problem is uncomplicated.

Unless delivered in person, both the Permission to Inspect and Appraise (FWS Form 3-2471) and the Waiver of Appraisal Requirement will contain a cover letter referred to as the Access Permission Letter. The Access Permission Letter does not request any information but is used to explain the form or waiver process.

Information is collected and protected in accordance with the Privacy Act (5 U.S.C. 552a) and the Freedom of Information Act (5 U.S.C. 552). We will maintain the information in a secure System of Records (Real Property Records, FWS-11; 64 FR 103, dated May 2, 1999). We gather Social Security numbers and banking information to assist with electronic payments and preparation of the required Internal Revenue Service Forms 1099.

Title of Collection: U.S. Fish and Wildlife Service Preliminary Land Acquisition Tracking Processes.

OMB Control Number: 1018-New.

Form Number: 3-2471.

Type of Review: Existing collection in use with an OMB Control Number.

Respondents/Affected Public: Individuals/households, private sector, and State/local/Tribal governments participating in realty transactions with the Service.

Respondent's Obligation: Required to Obtain or Retain a Benefit.

Frequency of Collection: On occasion.

Total Estimated Annual Nonhour Burden Cost: None.

Requirement | Average number of annual respondents | Average number of responses each | Average number of annual responses | Average completion time per response | Estimated Annual burden hours *
Initial Requests:
Individuals | 129 | 1 | 129 | .5 | 65
Private Sector | 78 | 1 | 78 | 1 | 78
Government | 13 | 1 | 13 | 2 | 26
Permission to Inspect and Appraise:
Individuals | 57 | 1 | 57 | .5 | 29
Private Sector | 24 | 1 | 24 | .5 | 12
Government | 4 | 1 | 4 | 2 | 8
Waiver of Appraisal Requirement:
Individuals | 3 | 1 | 3 | .5 | 2
Private Sector | 56 | 1 | 56 | .5 | 28
Government | 9 | 1 | 9 | 2 | 18
Totals | 373 |  | 373 |  | 266
* Rounded.

An agency may not conduct or sponsor and a person is not required to respond to a collection of information unless it displays a currently valid OMB control number.

The authority for this action is the Paperwork Reduction Act of 1995 (44 U.S.C. 3501 et seq.).

Dated: April 4, 2019.
Madonna Baucum,
Information Collection Clearance Officer, U.S. Fish and Wildlife Service.

[FR Doc. 2019-06944 Filed 4-8-19; 8:45 am]

BILLING CODE 4333-15-P